DEPARTMENT OF TRANSPORTATION

Federal Highway Administration

Notice of Intent To Prepare an Environmental Impact Statement: Dane County, Wisconsin

AGENCY: Wisconsin Department of Transportation (WisDOT), Federal Highway Administration (FHWA), Department of Transportation.

ACTION: Federal notice of intent to prepare an Environmental Impact Statement (EIS).

SUMMARY: The FHWA is issuing this notice to advise the public that an EIS will be prepared for a proposed freeway interchange improvement project on I-39/90 from the County N interchange in the south to the I-39/90/94/WIS 30 interchange (Badger Interchange) in the north and on US 12/18 from the West Broadway interchange in the west to the County AB intersection in the east in Dane County in south-central Wisconsin. Along US 12/18, improvements at the US 51 (Stoughton Road) interchange will also be evaluated from the Voges Rd./Terminal Dr. intersection in the south and to the Broadway intersection at the north.

FOR FURTHER INFORMATION CONTACT: Tracey Blankenship, Major Projects Program Manager, Federal Highway Administration, 525 Junction Road, Suite 8000, Madison, Wisconsin, 53717-2157, Telephone: (608) 829-7510.

SUPPLEMENTARY INFORMATION: The FHWA, in cooperation with the Wisconsin Department of Transportation (WisDOT), will prepare an EIS for proposed improvements at the I-39/90/US 12/18 interchange (Beltline Interchange) and adjacent local road systems, a distance of approximately 13.2 miles. The purpose of the project is to provide efficient transportation system linkages, address substandard geometrics, accommodate future traffic to an acceptable level, and improve overall safety. The EIS will evaluate a range of alternatives for the Beltline Interchange, adjacent roads, and connections to the local road network. The EIS will be prepared in accordance with 23 U.S.C. 139, 23 CFR 771, and 40 CFR 1500-1508. Completion of the Draft EIS (DEIS) and Final EIS (FEIS) are expected in 2016.

Public involvement is a critical component of the National Environmental Policy Act (NEPA) and will occur throughout the development of the DEIS and FEIS. All environmental documents will be made available for review by federal and state resource agencies and the public. Specific efforts to encourage involvement by, and solicit comments from, minority and low-income populations in the project study area will be made, with public involvement meetings held throughout the environmental document process. Public notice will be given as to the time and place of public involvement meetings. A public hearing will be held after the completion of the DEIS.

Inquiries about the EIS can be sent to Craig.Pringle@dot.wi.gov. A public Web site will be maintained for the EIS to provide information about the project and allow for online public comment; visit the I-39/90 Expansion Project Web site, www.i39-90.wi.gov, under the Resources tab and Environmental section. To ensure the full range of issues related to the proposed action are addressed and all significant issues identified, comments and suggestions are invited from all interested parties. Comments and questions concerning the proposed action and this notice should be directed to the FHWA address provided above.

Projects receiving Federal funds must comply with title VI of the Civil Rights Act, and E. O. 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing E.O. 12372 regarding intergovernmental consultation on Federal programs and activities apply to this program.)

Issued on: March 31, 2015.
Johnny M. Gerbitz,
Field Operations Engineer, Federal Highway Administration, Madison, Wisconsin.

[FR Doc. 2015-07857 Filed 4-3-15; 8:45 am]

BILLING CODE 4910-22-P